SMALL BUSINESS ADMINISTRATION

Washington, DC District Advisory Council; Public Meeting

The U.S. Small Business Administration Washington, DC District Advisory Council, located in the metropolitan area of Washington, DC, will hold a public meeting from 9 a.m.-11 a.m., Wednesday, October 11, 2000, at The Washington Times, 3600 New York Avenue, NE., Washington, DC, to discuss such matters as may be presented by members, staff of the U.S. Small Business Administration, or others present.

For further information, write or call Anita L. Irving, Public Information Officer, U.S. Small Business Administration, 1110 Vermont Avenue, NW., Suite 900, (P.O. Box 34500), Washington, DC 20043-4500; telephone 202-606-4000, ext. 275.

Bettie Baca,
Counselor to the Administrator/Public Liaison.

[FR Doc. 00-25795 Filed 10-5-00; 8:45 am]

BILLING CODE 8025-01-U